DEPARTMENT OF THE INTERIOR

Fish and Wildlife Service

50 CFR Part 17

[Docket No. FWS-R4-ES-2019-0018; FF09E22000 FXES1113090FEDR 212]

RIN 1018-BE09

Endangered and Threatened Wildlife and Plants; Reclassification of the Red-Cockaded Woodpecker From Endangered to Threatened With a Section 4(d) Rule

AGENCY: Fish and Wildlife Service, Interior.

ACTION: Proposed rule; announcement of a public informational meeting and public hearing.

SUMMARY: We, the U.S. Fish and Wildlife Service (Service), recently proposed to reclassify the endangered red-cockaded woodpecker (Dryobates borealis) as a threatened species with a rule issued under section 4(d) of the Endangered Species Act of 1973 (Act), as amended. We announced a 60-day public comment period on the proposed rule, ending December 7, 2020. We now announce a public informational meeting and public hearing on the proposed rule.

DATES:

Public informational meeting and public hearing: On December 1, 2020, we will hold a public informational meeting from 6 to 7:30 p.m., Eastern Time, followed by a public hearing from 7:30 to 9 p.m., Eastern Time.

Comment submission: We will accept written comments received or postmarked on or before December 7, 2020. Comments submitted electronically using the Federal eRulemaking Portal (see ADDRESSES, below) must be received by 11:59 p.m. Eastern Time on the closing date.

ADDRESSES: Availability of documents: You may obtain copies of the October 8, 2020, proposed rule and associated documents on the internet at http://www.regulations.gov under Docket No. FWS-R4-ES-2019-0018.

Public informational meeting and public hearing: The public informational meeting and the public hearing will be held virtually using the Zoom platform. See Public Hearing, below, for more information.

Comment submission: You may submit written comments by one of the following methods:

(1) Electronically: Go to the Federal eRulemaking Portal: http://www.regulations.gov. In the Search box, enter FWS-R4-ES-2019-0018, which is the docket number for this rulemaking. Then, click on the Search button. On the resulting page, in the Search panel on the left side of the screen, under the Document Type heading, click on the Proposed Rule box to locate this document. You may submit a comment by clicking on “Comment Now!”

(2) By hard copy: Submit by U.S. mail to: Public Comments Processing, Attn: FWS-R4-ES-2019-0018, U.S. Fish and Wildlife Service, MS: JAO/3W, 5275 Leesburg Pike, Falls Church, VA 22041-3803.

We request that you send comments only by the methods described above. We will post all comments on http://www.regulations.gov. This generally means that we will post any personal information you provide us (see Public Comments, below, for more information).

FOR FURTHER INFORMATION CONTACT: Aaron Valenta, Chief, Division of Restoration and Recovery, U.S. Fish and Wildlife Service, Southeast Regional Office, 1875 Century Boulevard, Atlanta, GA 30345; telephone 404-679-4144. Persons who use a telecommunications device for the deaf (TDD) may call the Federal Relay Service at 800-877-8339.

SUPPLEMENTARY INFORMATION:

Background

On October 8, 2020, we published a proposed rule (85 FR 63474) to reclassify the red-cockaded woodpecker from endangered to threatened (i.e., “downlist” the species) under the Act (16 U.S.C. 1531 et seq.). The proposed rule established a 60-day public comment period, ending December 7, 2020. We received a request for a public hearing. Therefore, we are announcing a public informational meeting and a public hearing to allow the public an additional opportunity to provide comments on the proposed rule.

For a description of previous Federal actions concerning the red-cockaded woodpecker and information on the types of comments that would be helpful to us in promulgating this rulemaking action, please refer to the October 8, 2020, proposed rule (85 FR 63474).

Public Hearing

We have scheduled a public informational meeting and public hearing on our October 8, 2020, proposed rule to reclassify the red-cockaded woodpecker (85 FR 63474). We will hold the public informational meeting and public hearing on the date and at the times listed above under Public informational meeting and public hearing in DATES. We are holding the public informational meeting and public hearing via the Zoom online video platform and via teleconference so that participants can attend remotely. For security purposes, registration is required. To listen and view the meeting and hearing via Zoom, listen to the meeting and hearing by telephone, or provide oral public comments at the public hearing by Zoom or telephone, you must register. For information on how to register, or if you encounter problems joining Zoom the day of the meeting, visit https://www.fws.gov/southeast/wildlife/birds/red-cockaded-woodpecker/#recovery-plan-section. Registrants will receive the Zoom link and the telephone number for the public informational meeting and public hearing. If applicable, interested members of the public not familiar with the Zoom platform should view the Zoom video tutorials (https://support.zoom.us/hc/en-us/articles/206618765-Zoom-video-tutorials) prior to the public informational meeting and public hearing.

The public hearing will provide interested parties an opportunity to present verbal testimony (formal, oral comments) regarding the October 8, 2020, proposed rule to reclassify the red-cockaded woodpecker (85 FR 63474). While the public informational meeting will be an opportunity for dialogue with the Service, the public hearing is not: It is a forum for accepting formal verbal testimony. In the event there is a large attendance, the time allotted for oral statements may be limited. Therefore, anyone wishing to make an oral statement at the public hearing for the record is encouraged to provide a prepared written copy of their statement to us through the Federal eRulemaking Portal, or U.S. mail (see ADDRESSES, above). There are no limits on the length of written comments submitted to us. Anyone wishing to make an oral statement at the public hearing must register before the hearing (https://www.fws.gov/southeast/wildlife/birds/red-cockaded-woodpecker/#recovery-plan-section/). The use of a virtual public hearing is consistent with our regulations at 50 CFR 424.16(c)(3).

Reasonable Accommodation

The Service is committed to providing access to the public informational meeting and public hearing for all participants. Closed captioning will be available during the public informational meeting and public hearing. Further, a full audio and video recording and transcript of the public hearing will be posted online at https://www.fws.gov/southeast/wildlife/birds/red-cockaded-woodpecker/#recovery-plan-section after the hearing. Participants will also have access to live audio during the public informational meeting and public hearing via their telephone or computer speakers. Persons with disabilities requiring reasonable accommodations to participate in the meeting and/or hearing should contact the person listed under FOR FURTHER INFORMATION CONTACT at least 5 business days prior to the date of the meeting and hearing to help ensure availability. An accessible version of the Service's public informational meeting presentation will also be posted online at https://www.fws.gov/southeast/wildlife/birds/red-cockaded-woodpecker/#recovery-plan-section prior to the meeting and hearing (see DATES, above). See https://www.fws.gov/southeast/wildlife/birds/red-cockaded-woodpecker/#recovery-plan-section for more information about reasonable accommodation.

Public Comments

If you submit information via http://www.regulations.gov, your entire submission—including any personal identifying information—will be posted on the website. If your submission is made via hard copy that includes personal identifying information, you may request at the top of your document that we withhold this information from public review. However, we cannot guarantee that we will be able to do so. We will post all hardcopy submissions on http://www.regulations.gov. Comments and materials we receive, as well as supporting documentation we used in preparing the proposed rule, will be available for public inspection on http://www.regulations.gov.

Authors

The primary authors of this document are the Ecological Services staff of the Southeast Regional Office, U.S. Fish and Wildlife Service.

Authority

The authority for this action is the Endangered Species Act of 1973, as amended (16 U.S.C. 1531 et seq.).

Aurelia Skipwith,
Director, U.S. Fish and Wildlife Service.

[FR Doc. 2020-25280 Filed 11-13-20; 8:45 am]

BILLING CODE 4333-15-P